DEPARTMENT OF STATE

[Public Notice: 10337]

Culturally Significant Objects Imported for Exhibition Determinations: “Dead Sea Scrolls: The Exhibition” Exhibition

ACTION: Notice; correction.

SUMMARY: On February 23, 2018, notice was published on page 8146 of the Federal Register (volume 83, number 37) of determinations pertaining to certain objects to be included in an exhibition entitled “Dead Sea Scrolls: The Exhibition.” The referenced notice is hereby corrected to state that the determinations set forth therein were made by Alyson Grunder, Deputy Assistant Secretary for Policy, Bureau of Educational and Cultural Affairs, Department of State, pursuant to the authorities listed in the Supplementary Information section of the referenced notice.

DATES: Applicable February 23, 2018.

FOR FURTHER INFORMATION CONTACT: Elliot Chiu in the Office of the Legal Adviser, U.S. Department of State (telephone: 202-632-6471; email: section2459@state.gov). The mailing address is U.S. Department of State, L/PD, SA-5, Suite 5H03, Washington, DC 20522-0505.

Alyson Grunder,
Deputy Assistant Secretary for Policy, Bureau of Educational and Cultural Affairs, Department of State.

[FR Doc. 2018-04188 Filed 2-28-18; 8:45 am]

BILLING CODE 4710-05-P